DEPARTMENT OF HOUSING AND URBAN DEVELOPMENT

[Docket No. FR-5611-N-01]

Notice of Proposed Information Collection: Comment Request; Labor Standards Training/Event Evaluation

AGENCY: Office of Labor Relations, Office of Departmental Operations and Coordination, HUD.

ACTION: Notice.

SUMMARY: The proposed information collection requirement described below will be submitted to the Office of Management and Budget (OMB) for review, as required by the Paperwork Reduction Act. The Department is soliciting public comments on the subject proposal.

DATES: Comments Due Date: August 20, 2012.

ADDRESSES: Interested persons are invited to submit comments regarding this proposal. Comments should refer to the proposal by name and/or OMB Control Number and should be sent to: Jacqueline W. Roundtree, Acting Director, Office of Labor Relations, Department of Housing and Urban Development, 451 7th Street SW., Room 2102, Washington, DC 20410 or Jackie.Roundtree@hud.gov.

FOR FURTHER INFORMATION CONTACT: Jade Banks, Senior Policy Advisor, Office of Labor Relations, Department of Housing and Urban Development, 451 7th Street SW., Room 2102, Washington, DC 20410 or Jade.M.Banks@hud.gov, telephone (202) 402-5475 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Labor Standards Training/Event Evaluation.

OMB Control Number, if applicable: 2501-NEW.

Description of the need for the information and proposed use: HUD conducts labor standards training and other outreach events for state and local agencies administering HUD programs and for contractors who are or may be engaged on HUD projects subject to prevailing wage requirements. In many cases, we request participants to complete a brief evaluation form at the end of the event. We use the data gathered to assess the effectiveness of our presentations so that we can better meet the needs of these audiences. The evaluation form is generally simple and will take five minutes to complete. Participation is voluntary and no respondent is required to disclose their name or any other identifying information. We are developing a sample format, no more than three standard 8½ x 11 inch pages in length including spaces for additional comments. In addition to a hard-copy version that will be distributed and collected at the event, we anticipate making the form available on-line in a fillable format that can be saved and submitted as an attachment to an email.

Agency form numbers, if applicable: In development.

Estimation of the total numbers of hours needed to prepare the information collection including number of respondents, frequency of response, and hours of response:

Item | Number of respondents | Amount of time required | Total time required/annum (in hrs.)
Evaluation (Respondents) | 4,000 | 5 minutes | 333
Assessment/event (HUD staff) | 150 events | 150 hours | 150
Recordkeeping/event (HUD staff) | 150 events | 75 hours | 75
Total Annual Burden |  |  | 558

Status of the proposed information collection: Approval of existing collection.

Authority: The Paperwork Reduction Act of 1995, 44 U.S.C., Chapter 35, as amended.

Dated: June 13, 2012.
Jacqueline W. Roundtree,
Acting Director, Office of Labor Relations.

[FR Doc. 2012-15109 Filed 6-19-12; 8:45 am]

BILLING CODE 4210-67-P